DEPARTMENT OF COMMERCE

National Oceanic and Atmospheric Administration

50 CFR Part 300

[Docket No. 070913514-7517-01]

RIN 0648-AW04

Pacific Halibut Fisheries; Subsistence Fishing; Correction

AGENCY: National Marine Fisheries Service (NMFS), National Oceanic and Atmospheric Administration (NOAA), Commerce.

ACTION: Correcting amendment.

SUMMARY: This action corrects a spelling error in final regulations (FR Doc. 03-8822) that were published in the Federal Register on April 15, 2003 (68 FR 18145). This action is necessary to correct a typographical error of an organized tribal entity name in regulations that implement Pacific halibut subsistence fishing management measures. This correcting amendment makes minor, non-substantive changes and does not change operating practices in the subsistence fishery or the rights and obligations of subsistence fishermen managed under the subsistence halibut regulations off Alaska.

DATES: Effective on May 15, 2003.

FOR FURTHER INFORMATION CONTACT: Peggy Murphy, NMFS, 907-586-7228 or email at peggy.murphy@noaa.gov.

SUPPLEMENTARY INFORMATION: A final rule published April 15, 2003, (68 FR 18145) implemented regulations to authorize and manage subsistence fishing of Pacific halibut (Hippoglossus stenolepis). These regulations appear at 50 CFR 300.65. This correcting amendment revises the table titled Halibut Regulatory Area 3B at § 300.65(g)(2) by correcting the spelling of “Qagan Toyagungin Tribe of Sand Point Village” under Organized Tribal Entity. The correct spelling is “Qagan Tayagungin Tribe of Sand Point Village”.

Need for Correction

Current reference to the Organized Tribal Entity Qagan Toyagungin Tribe of Sand Point Village at § 300.65(g)(2) needs to be corrected because the reference is not consistent with the list of Indian Entities Recognized and Eligible to Receive Services from the United States Bureau of Indian Affairs published by the Department of Interior (72 FR 13648) on March 22, 2007. This correcting amendment corrects the spelling of the Organized Tribal Entity.

Classification

Pursuant to 5 U.S.C. 553(b)(B) of the Administrative Procedure Act, the Assistant Administrator for Fisheries finds good cause to waive the requirement to provide prior notice and opportunity for public comment on this correcting amendment to the Pacific halibut subsistence fishing regulations. Notice and comment are unnecessary because this action makes only a minor, non-substantive change to correct a typographical error. The amendment does not make any substantive change in the rights and obligations of subsistence halibut fishermen. No aspect of this action is controversial and no change in operating practices in the subsistence fishery is required. Because this action makes only the minor, non-substantive change to § 300.65(g)(2) described above, it is not subject to the 30-day delay in effective date requirement of 5 U.S.C. 553(d).

List of Subjects in 50 CFR Part 300

Fisheries, Fishing, Indians, Reporting and recordkeeping requirements, Treaties.

Dated: November 30, 2007.
Samuel D. Rauch III
Deputy Assistant Administrator for Regulatory Programs, National Marine Fisheries Service.

Accordingly, 50 CFR part 300 is corrected by making the following correcting amendment:

PART 300—INTERNATIONAL FISHERIES REGULATIONS

1. The authority citation for 50 CFR part 300, continues to read as follows:

Authority: 16 U.S.C. 773-773k.

2. In § 300.65, paragraph (g)(2), in the table titled “Halibut Regulatory Area 3B” the entry for “Sand Point” is revised to read as follows:

§ 300.65 Catch sharing plan and domestic management measures in waters in and off Alaska.

(g) * * *

(2) * * *

Halibut Regulatory Area 3B
Place with Tribal Headquarters | Organized Tribal Entity
* * * * * * *
Sand Point | Pauloff Harbor Village Native Village of Unga Qagan Tayagungin Tribe of Sand Point Village

[FR Doc. E7-23695 Filed 12-5-07; 8:45 am]

BILLING CODE 3510-22-S